FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 827F

Name: Davies, Turner & Co.

Address: 113 Chestnut Street, Philadelphia, PA 19106

Date Revoked: October 12, 2001.

Reason: Surrendered license voluntarily.

License Number: 4425N

Name: Esprit International Shipping Combined Transport, Inc. dba Capital Freight Management

Address: 701 S. Atlantic Blvd., #200, Monterey Park, CA 91754

Date Revoked: September 5, 2001.

Reason: Failed to maintain a valid bond.

License Number: 3644F

Name: Forward Logistics Group, Inc.

Address: 1902 Cypress Lake Drive, Suite 200, Orlando, FL 32837

Date Revoked: September 30, 2001.

Reason: Failed to maintain a valid bond.

License Number: 14162NF

Name: ITS North America Limited

Address: 12727 NE 20th Street, Suite 23, Bellevue, WA 98005

Date Revoked: September 30, 2001.

Reason: Failed to maintain a valid bond.

License Number: 4513N

Name: Kevin C. Ahn dba Baytop Container Co.

Address: 2800 Plaza Del Amo Blvd., Torrance, CA 90503

Date Revoked: September 30, 2001.

Reason: Failed to maintain a valid bond.

License Number: 15333N

Name: Newtrans Service Corp. dba Newtrans Worldwide Co.

Address: 146-92 Guy R. Brewer Blvd., Jamaica, NY 11434

Date Revoked: September 30, 2001.

Reason: Failed to maintain a valid bond.

License Number: 13389N

Name: Pacificana Air Services, Inc.

Address: 5250 West Century Blvd., Suite 302, Torrance, CA 90045

Date Revoked: October 3, 2001.

Reason: Failed to maintain a valid bond.

License Number: 14267N

Name: Protech Shipping Co., Inc. dba PSI Express Line

Address: 161-15 Rockaway Blvd., Suite 108, Jamaica, NY 11434

Date Revoked: October 7, 2001.

Reason: Failed to maintain a valid bond.

License Number: 6313N

Name: Puerto Rico Freight Systems, Inc.

Address: Edificio 11, Central Mercantil Zona Libre, Guanaybo, PR 00965

Date Revoked: October 19, 2001.

Reason: Failed to maintain a valid bond.

License Number: 4343F

Name: Sea/Air Cargo Forwarders of NJ, Inc.

Address: 50 Lawlins Park South, Wyckoff, NJ 07481

Date Revoked: October 13, 2001.

Reason: Failed to maintain a valid bond.

License Number: 2581F

Name: Unitrans International Corporation

Address: 709 S. Hindry Avenue, Inglewood, CA 90301

Date Revoked: July 30, 2001.

Reason: Surrendered license voluntarily.

Ronald D. Murphy,
Deputy Director, Bureau of Consumer Complaints and Licensing.

[FR Doc. 01-28668 Filed 11-14-01; 8:45 am]

BILLING CODE 6730-01-P